DEPARTMENT OF TRANSPORTATION

Federal Aviation Administration

14 CFR Part 39

[Docket No. FAA-2013-1028; Directorate Identifier 2013-NM-068-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A318-111 and -112 airplanes, Model A319-111, -112, -113, -114, and -115 airplanes, Model A320-111, -211, -212, and -214 airplanes, and Model A321-111, -112, -211, -212, and -213 airplanes. This proposed AD was prompted by reports of broken aft engine mount retainers. This proposed AD would require inspecting the aft engine mount retainers for surface finish, and for cracks and failure, and replacement if necessary. We are proposing this AD to prevent failure of retainer brackets of the aft engine mount and consequent loss of the locking feature of the nuts of the inner and outer pins. Loss of the pins will result in the aft mount engine link no longer being secured to the aft engine mount.

DATES: We must receive comments on this proposed AD by February 3, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com.

For Goodrich Corporation service information identified in this proposed AD, contact Goodrich Corporation, Aerostructures, 850 Lagoon Drive, Chula Vista, CA 91910-2098; phone: 619-691-2719; email: jan.lewis@goodrich.com; Internet: http://www.goodrich.com/TechPubs.

You may view this service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Comments Invited

We invite you to send any written relevant data, views, or arguments about this proposed AD. Send your comments to an address listed under the ADDRESSES section. Include “Docket No. FAA-2013-1028; Directorate Identifier 2013-NM-068-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2013-0050, dated March 5, 2013 (referred to after this as the Mandatory Continuing Airworthiness Information, or “the MCAI”), to correct an unsafe condition for the specified products. The MCAI states:

During in-service inspections, several aft engine mount retainers, fitted on aeroplanes equipped with CFM56-5/5B engines, have been found broken.

The results of the investigations highlight that two different types of surface finish have been applied (respectively bright and dull material finishes), and that dull finish adversely affects the strength of the retainer with regard to fatigue properties of the part.

The pins which attach the engine link to the aft mount are secured by two nuts, which do not have a self-locking feature; this function is provided by the retainer brackets. In case of failure of the retainer bracket, the locking feature of the nuts of the inner and outer pins is lost; as a result, these nuts could subsequently become loose.

In case of full loss of the nuts, there is the potential to also lose the pins, in which case the aft mount link will no longer be secured to the aft engine mount. The same locking feature is used for the three link assemblies of the aft mount.

For the reasons described above, this [EASA] AD requires a one-time detailed visual inspection (DVI) of the aft engine mount to identify the affected dull finish retainers [and for cracks and failure] and replace these [retainers] with serviceable retainers. This [EASA] AD also prohibits installation of any dull finish aft engine mount retainers.

You may examine the MCAI in the AD docket on the Internet at http://www.regulations.gov by searching for and locating it in Docket No. FAA-2013-1028.

Relevant Service Information

Airbus has issued Airbus Alert Operators Transmission (AOT) A71N001-12, Rev. 2, dated February 27, 2013.

Goodrich Corporation has issued Goodrich Service Bulletin RA32071-146, Rev. 2, dated July 26, 2012.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 851 airplanes of U.S. registry.

We estimate the following costs to comply with this proposed AD:

Estimated Costs
Action | Labor cost | Parts cost | Cost per product | Cost on U.S. operators
Inspection | 3 work-hours × $85 per hour = $255 per inspection cycle for two engines | $0 | $255 per inspection cycle for two engines | $217,005 per inspection cycle for two engines.

We estimate the following costs to do any necessary replacements that would be required based on the results of the proposed inspection. We have no way of determining the number of aircraft that might need these replacements:

On-Condition Costs
Action | Labor cost | Parts cost | Cost per product
Bracket replacement | 1 work-hour × $85 per hour = $85 per engine | $10,000 | $10,085 per engine.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2013-1028; Directorate Identifier 2013-NM-068-AD.

(a) Comments Due Date

We must receive comments by February 3, 2014.

(b) Affected ADs

None.

(c) Applicability

This AD applies to the Airbus airplanes identified in paragraphs (c)(1) through (c)(4) of this AD, certificated in any category, all manufacturer serial numbers.

(1) Airbus Model A318-111 and -112 airplanes.

(2) Airbus Model A319-111, -112, -113, -114, and -115 airplanes.

(3) Airbus Model A320-111, -211, -212, and -214 airplanes.

(4) Airbus Model A321-111, -112, -211, -212, and -213 airplanes.

(d) Subject

Air Transport Association (ATA) of America Code 71, Powerplant.

(e) Reason

This AD was prompted by reports of broken aft engine mount retainers. We are issuing this AD to prevent failure of retainer brackets of the aft engine mount and consequent loss of the locking feature of the nuts of the inner and outer pins. Loss of the pins will result in the aft mount engine link no longer being secured to the aft engine mount.

(f) Compliance

Comply with this AD within the compliance times specified, unless already done.

(g) Inspection

Within 3 months after the effective date of this AD: Do a detailed inspection of the aft engine mount retainers for surface finish (dull or bright), and for cracks and failure, in accordance with Section 4.2.2, “Inspection Requirements,” of Airbus Alert Operators Transmission (AOT) A71N001-12, Rev. 2, dated February 27, 2013, except as specified in paragraph (h) of this AD.

(h) Exception to Paragraph (g) of This AD

The actions required by paragraph (g) of this AD are not required to be done on airplanes with manufacturer serial numbers 4942 and higher, provided a review of maintenance records verifies that no aft engine mount retainers have been replaced since first flight of the airplane.

(i) Repetitive Inspection and Retainer Replacement for Dull Finish Retainers

If, during the detailed inspection required by paragraph (g) of this AD, any installed dull finish aft engine mount retainer is found without cracks and not failed: Do the actions specified in paragraphs (i)(1) and (i)(2) of this AD.

(1) Within 25 flight cycles after doing the actions required by paragraph (g) of this AD, repeat the detailed inspection specified in paragraph (g) of this AD.

(2) Within 50 flight cycles after doing the first detailed inspection specified in paragraph (g) of this AD: Replace all dull finish retainers with a new or serviceable retainer, in accordance with Section 4.2.3.1, “Replacement Procedure,” of Airbus AOT A71N001-12, Rev. 2, dated February 27, 2013.

(j) Replacement of Cracked or Failed Retainers

If, during any detailed inspection specified in paragraph (g) of this AD, any installed aft engine mount retainer is found cracked or failed: Before further flight, replace all affected aft engine mount retainers with a new or serviceable retainer, in accordance with Section 4.2.3, “Replacement Procedure,” of Airbus AOT A71N001-12, Rev. 2, dated February 27, 2013.

(k) Parts Prohibition

As of the effective date of this AD, no person may install any aft engine mount retainer with a dull finish on any airplane. The instructions of Airbus AOT A71N001-12, Revision 2, dated February 27, 2013; or the Accomplishment Instructions of Goodrich Service Bulletin RA32071-146, Rev. 2, dated July 26, 2012; can be used to verify the correct finish of the part.

(l) Credit for Previous Actions

This paragraph provides credit for actions required by paragraphs (g), (i), and (j) of this AD, if those actions were performed before the effective date of this AD using Airbus AOT A71N001-12, Rev. 1, dated August 9, 2012.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or by the Design Approval Holder with a State of Design Authority's design organization approval). For a repair method to be approved, the repair approval must specifically refer to this AD. You are required to ensure the product is airworthy before it is returned to service.

(n) Special Flight Permits

Special flight permits may be issued in accordance with sections 21.197 and 21.199 of the Federal Aviation Regulations (14 CFR 21.197 and 21.199) to operate the airplane to a location where the airplane can be modified (if the operator elects to do so), provided no dull finish aft engine mount retainers that are cracked or have failed are installed.

(o) Related Information

(1) Refer to Mandatory Continuing Airworthiness Information (MCAI) European Aviation Safety Agency Airworthiness Directive 2013-0050, dated March 5, 2013, for related information. This MCAI may be found in the AD docket on the Internet at http://www.regulations.gov by searching for and locating it in Docket No. FAA-2013-1028.

(2) For Airbus service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(3) For Goodrich Corporation service information identified in this AD, contact Goodrich Corporation, Aerostructures, 850 Lagoon Drive, Chula Vista, CA 91910-2098; phone: 619-691-2719; email: jan.lewis@goodrich.com; Internet: http://www.goodrich.com/TechPubs.

(4) You may view this service information at the FAA, Transport Airplane Directorate, 1601 Lind Avenue SW., Renton, WA. For information on the availability of this material at the FAA, call 425-227-1221.

Issued in Renton, Washington, on December 9, 2013.
John P. Piccola,
Acting Manager, Transport Airplane Directorate, Aircraft Certification Service.

[FR Doc. 2013-30030 Filed 12-17-13; 8:45 am]

BILLING CODE 4910-13-P